Proclamation 8151 of May 31, 2007

Black Music Month, 2007

By the President of the United States of America

A Proclamation

During Black Music Month, we recognize the outstanding contributions that African-American singers, composers, and musicians have made to our country, and we express our appreciation for the extraordinary music that has enriched our Nation.

The music of African-American musicians has helped shape our national character and become an important part of our musical heritage. Often born out of great pain and strong faith, that music has helped African Americans endure tremendous suffering and overcome injustice with courage, faith, and hope. By speaking to the human experience and expressing heartfelt emotion, African-American artists have inspired people across the generations in America and around the world with their vision and creativity.

This month is an opportunity to honor the men and women who have created some of the best music America has ever produced. Great musical talents such as Ray Charles, Louis Armstrong, Mahalia Jackson, Ella Fitzgerald, Duke Ellington, and James Brown have enriched our culture with innovative talent and artistic legacies that continue to influence musicians today. We remember so many wonderful artists and celebrate the achievements of black musicians whose work reflects the diversity of our citizens and lifts the human spirit.

NOW, THEREFORE, I, GEORGE W. BUSH, President of the United States of America, by virtue of the authority vested in me by the Constitution and laws of the United States, do hereby proclaim June 2007 as Black Music Month. I encourage all Americans to learn more about the history of black music and to enjoy the great contributions of African-American musicians.

IN WITNESS WHEREOF, I have hereunto set my hand this thirty-first day of May, in the year of our Lord two thousand seven, and of the Independence of the United States of America the two hundred and thirty-first.

[FR Doc. 07-2800

Filed 6-1-07; 8:52 am]

Billing code 3195-01-P